ENVIRONMENTAL PROTECTION AGENCY

40 CFR Part 58

[EPA-HQ-OAR-2006-0735; FRL-8754-9]

RIN 2060-AN83

National Ambient Air Quality Standards for Lead

AGENCY: Environmental Protection Agency (EPA).

ACTION: Correcting amendment.

SUMMARY: The EPA issued a final rule on November 12, 2008 (effective date January 12, 2009) that revised the National Ambient Air Quality Standard (NAAQS) for lead (Pb) and associated monitoring requirements. This document makes a minor correction to the November 12, 2008, action to correct a typographical error in the regulatory text for the rule.

DATES: This correction is effective January 12, 2009.

FOR FURTHER INFORMATION CONTACT: Mr. Kevin Cavender, Air Quality Assessment Division (C304-06), Office of Air Quality Planning and Standards, U.S. Environmental Protection Agency, Research Triangle Park, North Carolina 27711; telephone number: (919) 541-2364; fax number: (919) 541-1903; e-mail address: Cavender.kevin@epa.gov.

SUPPLEMENTARY INFORMATION:

Background

The EPA issued a final rule on November 12, 2008 (effective date January 12, 2009) that revised the NAAQS for Pb and associated Pb monitoring requirements. As part of the Pb monitoring requirements, monitoring agencies are required to develop a plan for establishing Pb monitoring sites in accordance with the requirements of appendix D of Part 58. A number of requirements for this plan were listed including the identification of (1) the designation of any Pb monitors as either source-oriented or non-source-oriented according to Appendix D to 40 CFR part 58, (2) any source-oriented monitors for which a waiver has been requested or granted by the EPA Regional Administrator as allowed for under paragraph 4.5(a)(ii) of Appendix D to 40 CFR part 58, and (3) any source-oriented or non-source-oriented site for which a waiver has been requested or granted by the EPA Regional Administrator for the use of Pb-PM10 monitoring in lieu of Pb-TSP monitoring as allowed for under paragraph 2.10 of Appendix C to 40 CFR Part 58. These requirements were correctly included in the amended regulatory text for 40 CFR Part 58 in the final rule. In describing the amendments to the existing regulatory text, EPA accurately included a reference adding paragraph 58.10 (b)(9) (which contains the first requirement identified above). Although the notice included the text of paragraphs 58.10 (b)(10) and (b)(11) (which contain the second and third requirements identified above), EPA inadvertently failed to specify that these paragraphs were also being added to the existing regulatory text in the amendatory language.

Need for Correction

As published, the regulatory text in the final regulation contains a minor error that, if not corrected, would result in an error in the publication of the regulatory amendment in the Code of Federal Regulations. This action merely addresses an error in describing how the CFR regulatory text is amended, and not the amended regulatory text itself. Thus it is proper to issue this action with out notice and comment. Section 553 of the Administrative Procedure Act (APA), 5 U.S.C. 553(b)(B), provides that, when an Agency for good cause finds that notice and public procedure are impracticable, unnecessary, or contrary to the public interest, the Agency may issue a rule without providing notice and an opportunity for public comment. We have determined that there is good cause for making this action final without prior proposal and opportunity for comment because the change to the rule is a minor technical correction, is non-controversial, and does not substantively change the agency actions taken in the final rule. We similarly have determined there is good cause for making this rule effective January 12, 2009, because that is the same day the revisions to the Pb NAAQS and the monitoring requirements become effective under the rule published November 12, 2008.

Corrections of Publication

The EPA issued a final rule on November 12, 2008 that revised the NAAQS for Pb and associated monitoring requirements. Instruction 15 on how the Code of Federal Regulations is amended inadvertently failed to identify two paragraphs as amendments to 40 CFR 58.10. As published in the November 12, 2008 final rule, instruction 15 reads as follows:

“15. Section 58.10, is amended by added paragraph subsections (a)(4) and adding paragraph (b)(9) to read as follows:”

In FR Doc. E8-25654 published November 12, 2008 (73 FR 66964), make the following correction. On page 67059, in the center column, amendatory instruction 15 is corrected to read as follows:

“15. Section 58.10, is amended by adding paragraph (a)(4) and adding paragraphs (b)(9) through (b)(11) to read as follows:”

List of Subjects in 40 CFR Part 58

Environmental protection, Air pollution control, Intergovernmental relations, Reporting and recordkeeping requirements.

Dated: December 12, 2008.
Robert J. Meyers,
Principal Deputy Assistant Administrator, Office of Air and Radiation.

[FR Doc. E8-30199 Filed 12-18-08; 8:45 am]

BILLING CODE 6560-50-P